DEPARTMENT OF DEFENSE

Office of the Secretary

Charter Amendment and Renewal—Department of Defense Federal Advisory Committees

AGENCY: Department of Defense (DoD).

ACTION: Charter amendment and renewal.

SUMMARY: Pursuant to the Federal Advisory Committee Act of 1972 (5 U.S.C., Appendix), the Sunshine in the Government Act of 1976 (5 U.S.C. 552b), 41 CFR 102-3.65, and 41 CFR 102-3.80 the Department of Defense announces that it has amended the 2008-2010 charter for the Defense Advisory Committee on Women in the Services (hereafter referred to as “the committee”), and that it intends to renew the committee's charter for another two years effective April 17, 2010.

FOR FURTHER INFORMATION CONTACT: Jim Freeman, Deputy Advisory Committee Management Officer for the Department of Defense, 703-601-6128.

SUPPLEMENTARY INFORMATION: The committee's mission was amended to reflect that military family issues will no longer be addressed by the Defense Advisory Committee on Women in the Services. Instead these issues will be addressed by the Department of Defense Military Family Readiness Council which was established by Act of Congress (section 581 of Pub. L. 110-181).

The committee, through the Under Secretary of Defense for Personnel and Readiness, provides independent advice and recommendations to the Secretary of Defense on matters and policies relating to women in the Armed Forces of the United States. Pursuant to DoD policy, the Under Secretary of Defense for Personnel and Readiness may act upon the committee's advice and recommendations.

The committee shall be composed of not more than 35 members who have experience with the military or with women's workforce issues. Committee members shall be appointed by the Secretary of Defense, and their appointments will be renewed on an annual basis. Those members, who are not full-time or permanent part-time Federal officers or employees, shall be appointed as experts and consultants under the authority of 5 U.S.C. 3109, and serve as special government employees. Generally, Board members will be approved by the appointing authority to serve on the Board for a term of three years with approximately one-third of the membership rotating annually, to the extent possible. With the exception of travel and per diem for official travel, Board members shall serve without compensation. The Secretary of Defense shall designate the Defense Advisory Committee on Women in the Services Chairperson.

Pursuant to 41 CFR 102-3.105(j) and 102-3.140, the public or interested organizations are reminded that they may submit written statements to the committee membership about the committee's mission and functions. Written statements may be submitted at any time or in response to the stated agenda of a planned meeting of the Defense Advisory Committee on Women in the Services.

All written statements shall be submitted to the Designated Federal Officer for the Defense Advisory Committee on Women in the Services, and this individual will ensure that the written statements are provided to the membership for their consideration. Contact information for the Defense Advisory Committee on Women in the Services' Designated Federal Officer may be obtained from the GSA's FACA Database— https://www.fido.gov/facadatabase/public.asp.

The Designated Federal Officer, pursuant to 41 CFR 102-3.150, will announce planned meetings of the Defense Advisory Committee on Women in the Services. The Designated Federal Officer, at that time, may provide additional guidance on the submission of written statements that are in response to the stated agenda for the planned meeting in question.

Dated: April 7, 2010.
Mitchell S. Bryman,
Alternate OSD Federal Register Liaison Officer, Department of Defense.

[FR Doc. 2010-8269 Filed 4-9-10; 8:45 am]

BILLING CODE 5001-06-P